DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 18, 2009.

Interested persons are invited to submit written comments regarding the subject matter of the investigations to the Director, Division of Trade Adjustment Assistance, at the address shown below, not later than December 18, 2009.

The petitions filed in this case are available for inspection at the Division of Trade Adjustment Assistance, Employment and Training Administration, U.S. Department of Labor, Room N-5428, 200 Constitution Avenue, NW., Washington, DC 20210.

Signed at Washington, DC, this 18th day of November 2009.
Richard Church,
Certifying Officer, Division of Trade Adjustment Assistance.

Appendix
[TAA petitions instituted between 11/2/09 and 11/6/09]
TA-W | Subject firm (Petitioners) | Location | Date of institution | Date of petition
72724 | Freedom Communications (Wkrs) | Jacksonville, NC | 11/03/09 | 10/28/09
72725 | Freescale Semiconductor, Inc. (Wkrs) | Austin, TX | 11/02/09 | 09/28/09
72726 | U.S Textile Corporation (Comp) | Newland, NC | 11/02/09 | 10/21/09
72727 | Andrews International (Comp) | Benton Harbor, MI | 11/02/09 | 10/29/09
72728 | Keiper, LLC (Wkrs) | Troy, MI | 11/02/09 | 10/26/09
72729 | International Paper, Pineville Mill (State) | Pineville, LA | 11/02/09 | 10/23/09
72730 | Gateway Corporation (Comp) | Corinth, MS | 11/02/09 | 10/27/09
72731 | MetLife (Wkrs) | Johnstown, PA | 11/02/09 | 10/29/09
72732 | Federal-Mogul (Comp) | Michigan City, IN | 11/02/09 | 10/30/09
72733 | HMX Tailored (Wkrs) | Buffalo, NY | 11/02/09 | 10/30/09
72734 | Nukote International (Wkrs) | Rochester, NY | 11/02/09 | 10/30/09
72735 | Colfer Manufacturing, Inc. (Union) | Minerva, OH | 11/02/09 | 10/28/09
72736 | General Motors Powertrain (Union) | Buffalo, NY | 11/02/09 | 10/28/09
72737 | GE Transportation (Union) | Emporium, PA | 11/03/09 | 11/02/09
72738 | Knowledge Networks (Comp) | Cranford, NJ | 11/03/09 | 10/30/09
72739 | U.S. Steel Tublar Products, Inc. (Union) | Hughes Springs, TX | 11/03/09 | 11/02/09
72740 | Bruss North America (Comp) | Russell Springs, KY | 11/03/09 | 10/31/09
72741 | Landmark Automotive, LLC (Wkrs) | Lawrenceburg, TN | 11/03/09 | 10/28/09
72742 | Cooper Standard Automotive (Wkrs) | Bowling Green, OH | 11/03/09 | 11/02/09
72743 | Ormet Primary Aluminum Corporation (Comp) | Hannibal, OH | 11/03/09 | 10/27/09
72744 | The H. B. Smith Company, Inc. (Comp) | Westfield, MA | 11/03/09 | 10/27/09
72745 | Sanborn Map Company (Wkrs) | Chesterfield, MO | 11/03/09 | 10/26/09
72746 | Merkle-Korff Industries (Comp) | Darlington, WI | 11/03/09 | 10/21/09
72747 | Patterson UTI (Wkrs) | San Angelo, TX | 11/03/09 | 10/30/09
72748 | New United Motor Manufacturing (State) | Fremont, CA | 11/03/09 | 10/29/09
72749 | Norforge and Machining, Inc. (Comp) | Bushnell, IL | 11/03/09 | 10/30/09
72750 | Schneider National (Wkrs) | Seville, OH | 11/03/09 | 10/29/09
72751 | New Mather Metals, Inc. (Comp) | Toledo, OH | 11/03/09 | 10/20/09
72752 | Arcelor Mittal Steel (Wkrs) | Steelton, PA | 11/03/09 | 11/02/09
72753 | Galax Energy Concepts (Wkrs) | Galax, VA | 11/03/09 | 10/27/09
72754 | Speck Buildings, LLC (Comp) | Meridian, ID | 11/03/09 | 10/26/09
72755 | DW Enterprise of Ashland, Inc. (Comp) | Ashland, OH | 11/04/09 | 11/02/09
72756 | Hendrickson USA, LLC (Comp) | Canton, OH | 11/04/09 | 11/02/09
72757 | Intermet New River Foundry (Wkrs) | Radford, VA | 11/04/09 | 10/28/09
72758 | Wacker Polymers (Comp) | Allentown, PA | 11/04/09 | 11/02/09
72759 | Donsco, Inc. (Wkrs) | Wrightsville, PA | 11/04/09 | 11/03/09
72760 | Georgia Pacific (State) | Fordyce, AR | 11/04/09 | 11/03/09
72761 | Waterfowl Packaging, LLC (Comp) | Fort Payne, AL | 11/04/09 | 10/28/09
72762 | Upper Connecticut Valley Hospital (Comp) | Colebrook, NH | 11/04/09 | 11/02/09
72763 | Thermo Fisher Scientific—Matrix Technologies (Compe) | Hudson, NH | 11/04/09 | 10/09/09
72764 | International Paper Company (Comp) | Franklin, VA | 11/04/09 | 11/03/09
72765 | Agora Management (State) | Baltimore, MD | 11/04/09 | 10/03/09
72766 | INFOR (Wkrs) | Chicago, IL | 11/05/09 | 05/29/09
72767 | Hologic, Inc. (Comp) | Redwood City, CA | 11/05/09 | 10/28/09
72768 | Solid State Measurements, Inc. (Wkrs) | Pittsburgh, PA | 11/04/09 | 11/03/09
72769 | Siemens IT Solutions and Services (Wkrs) | Clarks Summit, PA | 11/05/09 | 10/30/09
72770 | DEX Media, Inc. (Union) | Lone Tree, CO | 11/05/09 | 10/23/09
72771 | HMC Technologies (Comp) | New Albany, MS | 11/05/09 | 10/28/09
72772 | Narrow Fabric Industries, Corporation (Comp) | West Reading, PA | 11/05/09 | 11/04/09
72773 | Clark Engineering Company (State) | Owosso, MI | 11/05/09 | 10/14/09
72774 | CRH of North America (State) | Warren, MI | 11/05/09 | 10/14/09
72775 | Spirex Corporation (Wkrs) | Sullivan, WI | 11/05/09 | 11/04/09
72776 | Masters Tool and Die, Inc. (State) | Saginaw, MI | 11/05/09 | 10/14/09
72777 | Caterpillar Inc., Building Construction Projects Division (Comp) | Clayton, NC | 11/05/09 | 11/03/09
72778 | Kenco Logistic Services, LLC (Wkrs) | Webster City, IA | 11/06/09 | 11/05/09
72779 | Kenco Logistic Services, LLC (Wkrs) | Ames, IA | 11/06/09 | 11/05/09
72780 | Flametech DBA Xaloy (Comp) | Seabrook, NH | 11/06/09 | 10/20/09
72781 | Quebecor World (Wkrs) | Covington, TN | 11/06/09 | 11/04/09
72782 | Amweld International, LLC (Wkrs) | North Jackson, OH | 11/06/09 | 11/01/09
72783 | Siemens IT Solutions and Services, Inc. (Comp) | Clark Summit, PA | 11/06/09 | 11/05/09
72784 | RadlSys Corporation (Comp) | Boca Raton, FL | 11/06/09 | 11/03/09
72785 | Beneteau USA (Wkrs) | Marion, SC | 11/06/09 | 11/02/09
72786 | Rexnord (State) | Milwaukee, WI | 11/06/09 | 11/05/09

[FR Doc. E9-29143 Filed 12-7-09; 8:45 am]

BILLING CODE 4510-FN-P